DEPARTMENT OF HEALTH AND HUMAN SERVICES

Administration for Children and Families

Proposed Information Collection Activity: 2020 Residential Energy Consumption Survey (RECS), Low Income Home Energy Assistance Program (LIHEAP) Administrative Data Matching (OMB #0970-0486)

AGENCY: Office of Community Services; Administration for Children and Families; HHS.

ACTION: Request for Public Comment.

SUMMARY: The Office of Community Services (OCS) is requesting an extension for the collection and reporting of 2020 administrative household data for state LIHEAP grantees' LIHEAP recipients. OMB approved the original collection under #0970-0486.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The purpose of this information collection is to provide data that will allow OCS to identify LIHEAP recipients that respond to the upcoming Residential Energy Consumption Survey (RECS), which The U.S. Energy Information Administration (EIA) is planning to conduct in 2020. The EIA conducts the RECS survey to provide periodic national and regional data on residential energy use in the United States. OCS uses RECS data to furnish Congress and the Administration for Children and Families (ACF) with important national and regional descriptive data on the energy needs of low-income households.

In 2015, state LIHEAP grantees provided household-level recipient data to identify LIHEAP recipients that participated in the 2015 RECS. ACF is requesting no changes in the type of data or the form of data collection for the 2020 extension of the project. The administrative household data already is collected by State grantees and used to complete the annual LIHEAP Household Report (OMB Control No. 0970-0060) and the annual LIHEAP Performance Data Form (OMB Control No. 0970-0449).

The LIHEAP data collected for this effort will be used by OCS to study the impact of LIHEAP on income eligible and recipient households in accordance with 42 U.S.C. 8629(b)(2). The information is being collected for use in development of the Department's annual LIHEAP Report to Congress and the annual LIHEAP Home Energy Notebook. The collection of this data is authorized by the LIHEAP statute, which requires the Secretary, following consultation with the Secretary of Energy, to provide for the collection of specific information on the characteristics of LIHEAP recipient and LIHEAP eligible households within each State. This includes collecting information that is reasonably necessary to carry out the provisions of the LIHEAP statute if that information is not collected by any other agency of the Federal Government.

State LIHEAP grantees will be asked to furnish data for LIHEAP recipient households that reside in areas included in the RECS sample.

The following are the specific data items grantees will report for each household:

• Name

• Address (including ZIP code)

• Gross Income

• Household or Client ID

• Household Size

• Heating assistance awarded

• Amount of heating assistance

• Date of heating assistance

• Cooling assistance awarded

• Amount of cooling assistance

• Date of cooling assistance

• Crisis Assistance awarded

• Amount of crisis assistance

• Date of crisis assistance

• Other Assistance awarded

• Amount of other assistance

• Date of other assistance

• Presence of children 5 or younger

• Presence of adult 60 or older

• Presence of disabled

The following are optional data items that grantees can provide if the data are available in your database:

• Tenancy (i.e., own or rent)

• Type(s) of fuel used

• Heat included in rent

State LIHEAP grantees can provide the data elements in the selected format of their choosing.

The confidentiality of client data will be strictly protected as part of the project. LIHEAP application client waivers allow grantees to share information with OCS and its contractors.

Respondents: 51 (State Governments and the District of Columbia)

Annual Burden Estimates
Instrument | Total number of respondents | Total number of responses per respondent | Average burden hours per response | Total burden hours | Annual burden hours
Action Transmittal LIHEAP-AT-2020-04 Extension of the FY 2015 RECS LIHEAP Administrative Data Matching to FY 2020 | 51 | 1 | 24 | 1,224 | 408

Estimated Total Annual Burden Hours: 408.

As LIHEAP is a block grant, there is varying capacity to collect and report data among grantees. The estimated burden hours displayed above are for the average LIHEAP grantee. All LIHEAP grantees have existing data systems to collect, maintain, and analyze this data to complete annual reporting requirements.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8629(a).

Mary B. Jones,
ACF/OPRE Certifying Officer.

[FR Doc. 2019-16162 Filed 7-29-19; 8:45 am]

BILLING CODE 4184-80-P